DEPARTMENT OF HOMELAND SECURITY

Coast Guard

33 CFR Part 117

[Docket No. USCG-2010-1006]

Drawbridge Operation Regulation; Neuse River, New Bern, NC

AGENCY: Coast Guard, DHS.

ACTION: Notice of temporary deviation from regulations.

SUMMARY: The Commander, Fifth Coast Guard District, has issued a temporary deviation from the regulations governing the operation of the Neuse River Railroad Bridge across Neuse River, mile 34.2, at New Bern, NC. This closure is necessary to facilitate mechanical repairs.

DATES: This deviation is effective from 8 a.m. on November 16, 2010 through 8 a.m. on November 18, 2010.

ADDRESSES: Documents mentioned in this preamble as being available in the docket are part of docket USCG-2010-1006 and are available online by going to http://www.regulations.gov, inserting USCG-2010-1006 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Waverly W. Gregory, Jr., Bridge Administrator, Fifth Coast Guard District; telephone 757-398-6222, e-mail Waverly.W.Gregory@uscg.mil. If you have questions on viewing the docket, call Renee V. Wright, Program Manager, Docket Operations, telephone 202-366-9826.

SUPPLEMENTARY INFORMATION: The Norfolk Southern Railway (NSR) owns and operates the swing span of the Neuse River Railroad Bridge across Neuse River in New Bern NC. The bridge has zero vertical clearance in the closed position to vessels, above mean high water. The current operating regulations are outlined at 33 CFR 117.5, which requires the bridge to open promptly and fully for the passage of vessels when a request to open is given.

NSR has requested a temporary deviation to the existing regulations for the Neuse River Railroad Bridge to facilitate mechanical repairs. The repairs consist of removing, refurbishing, and replacing of drive shaft bearings, wedge blocks, rail levers, and turnbuckles.

Under this deviation, the swing span of the drawbridge will be maintained in the closed-to-navigation position from 8 a.m. on November 16, 2010, through 8 a.m. on November 18, 2010.

According to information furnished by NSR, the swing span normally remains open to vessels, closing to permit rail traffic usually four times in a 24-hour period and these closures generally occur between 11 p.m. and 10 a.m. In 2009, between 10 a.m. and 11 p.m., vessel traffic passing at the swing span typically consisted of four yachts.

The Coast Guard will inform the users of the waterway through our Local and Broadcast Notices to Mariners of the closure period so that vessels can arrange their transits to minimize any impact caused by the temporary deviation.

There are no alternate routes for vessels transiting this section of the Neuse River and the drawbridge will be unable to open in the event of an emergency.

In accordance with 33 CFR 117.35(e), the drawbridge must return to its regular operating schedule immediately at the end of the designated time period. This deviation from the operating regulation is authorized under 33 CFR 117.35.

Dated: November 2, 2010.
Waverly W. Gregory, Jr.
Chief, Bridge Administration Branch, Fifth Coast Guard District.

[FR Doc. 2010-28736 Filed 11-15-10; 8:45 am]

BILLING CODE 9110-04-P